DEPARTMENT OF THE INTERIOR

National Park Service

[NPS-WASO-NAGPRA-NPS0032110; PPWOCRADN0-PCU00RP14.R50000]

Notice of Inventory Completion: Sierra Mono Museum and Cultural Center, North Fork, CA

AGENCY: National Park Service, Interior.

ACTION: Notice.

SUMMARY: The Sierra Mono Museum and Cultural Center has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Sierra Mono Museum and Cultural Center. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Sierra Mono Museum and Cultural Center at the address in this notice by July 26, 2021.

FOR FURTHER INFORMATION CONTACT: Christina McDonald, President of the Sierra Mono Museum and Cultural Center, 33103 Road 228 North Fork, CA 93643, telephone (559) 877-2115, email monomuseum@gmail.com.

SUPPLEMENTARY INFORMATION: Notice is here given in accordance with the Native American Graves Protection and Repatriation Act (NAGPRA), 25 U.S.C. 3003, of the completion of an inventory of human remains under the control of the Sierra Mono Museum and Cultural Center, North Fork, CA. The human remains were removed from the area of the Kaw River in northeastern Kansas.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made on behalf of the Sierra Mono Museum and Cultural Center by Dr. Chelsey Juarez of California State University Fresno, in consultation with representatives of the Iowa Tribe of Kansas and Nebraska; Kaw Nation, Oklahoma; Kickapoo Tribe of Indians of the Kickapoo Reservation in Kansas; Prairie Band Potawatomi Nation [previously listed as Prairie Band of Potawatomi Nation, Kansas]; and the Sac & Fox Nation of Missouri in Kansas and Nebraska (hereafter referred to as “The Tribes”).

History and Description of the Remains

Sometime prior to 1980, human remains representing, at minimum, one individual were removed from the area of the Kaw River in northeastern Kansas. In 2019, while moving their collections, the Sierra Mono Museum and Cultural Center discovered these human remains in a box associated with the Tettleton Wildlife Collection, which the museum had acquired in 1982. The box also contained an image of the human remains and the words “Kaw River” written on the back of the image.

The human remains belong to an adult, possible female and probably 24-30 years of age. The dental wear is consistent for an individual of Native American ancestry. The remains are probably early historic or prehistoric in date. No known individual was identified. No associated funerary objects are present.

Determinations Made by the Sierra Mono Museum and Cultural Center

Officials of the Sierra Mono Museum and Cultural Center have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Christina McDonald, Sierra Mono Museum and Cultural Center, 33103 Road 228, North Fork, CA 93643, telephone (559) 877-2115, email monomuseum@gmail.com, by July 26, 2021. After that date, if no additional requestors have come forward, transfer of control of the human remains to The Tribes may proceed.

The Sierra Mono Museum is responsible for notifying The Tribes that this notice has been published.

Dated: June 9, 2021.
Melanie O'Brien,
Manager, National NAGPRA Program.

[FR Doc. 2021-13514 Filed 6-24-21; 8:45 am]

BILLING CODE 4312-52-P